NUCLEAR REGULATORY COMMISSION

[Docket No. 72-11]

Sacramento Municipal Utility District, Rancho Seco Independent Spent Fuel Storage Installation; Notice of Docketing of Materials License SNM-2510; Application for an Exemption and for a Conforming Amendment

By letter dated July 19, 2004, Sacramento Municipal Utility District (SMUD or the licensee) submitted an application to the Nuclear Regulatory Commission (NRC or the Commission) requesting an exemption from the requirements of Title 10 of the Code of Federal Regulations (10 CFR) 72.44(d)(3) pursuant to 10 CFR 72.7 and also requesting a conforming amendment to the Rancho Seco Independent Spent Fuel Storage Installation (ISFSI) technical specifications pursuant to 10 CFR 72.56.

The licensee is requesting Commission approval to be relieved from submitting an annual report to the Commission specifying the quantity of principal radionuclides released to the environment in liquid and gaseous effluent during the previous 12 months of the Rancho Seco ISFSI operation. The licensee is currently storing spent fuel at the Rancho Seco ISFSI on the site of the Rancho Seco Nuclear Generating Station located in Sacramento County, California under license SNM-2510. If the exemption is granted, then as further requested by the licensee, upon approval of the Commission, the Rancho Seco ISFSI license, SNM-2510, would be amended to remove this requirement from the technical specifications.

This application was docketed under 10 CFR part 72; the ISFSI Docket No. is 72-11 and will remain the same for this action.

In accordance with the requirement of 10 CFR 51.21, NRC will perform an environmental assessment of the potential environmental impacts of this exemption request. The exemption (in conjunction with the conforming license amendment) is subject to the Commission's approval.

If the Commission grants the requested exemption, the Commission may issue either a notice of hearing or a notice of proposed action and opportunity for hearing in accordance with 10 CFR 72.46(b)(1) regarding the proposed amendment or, if a determination is made that the proposed amendment does not present a genuine issue as to whether public health and safety will be significantly affected, take immediate action on the proposed amendment in accordance with 10 CFR 72.46(b)(2) and provide notice of the action taken and an opportunity for interested persons to request a hearing on whether the action (conforming amendment) should be rescinded or modified.

For further details with respect to this amendment, see the application dated July 19, 2004, which is publicly available in the records component of NRC's Agencywide Documents Access and Management System (ADAMS). The NRC maintains ADAMS, which provides text and image files of NRC's public documents. These documents may be accessed through the NRC's Public Electronic Reading Room on the Internet at http://www.nrc.gov/reading-rm/adams.html. If you do not have access to ADAMS or if there are problems in accessing the documents located in ADAMS, contact the NRC Public Document Room (PDR) Reference staff at 1-800-397-4209, 301-415-4737 or by e-mail to pdr@nrc.gov.

Dated at Rockville, Maryland, this 15th day of October 2004.
For the Nuclear Regulatory Commission.
Amy M. Snyder,
Project Manager, Spent Fuel Project Office, Office of Nuclear Material Safety and Safeguards.

[FR Doc. 04-24018 Filed 10-26-04; 8:45 am]

BILLING CODE 7590-01-P